DEPARTMENT OF TRANSPORTATION

Federal Aviation Administration

Federal Aviation Administration Report on Rules and Policies for Repairs, Alterations and Fabrication of Parts

AGENCY: Federal Aviation Administration (DOT).

ACTION: Notice of availability and request for public comment.

SUMMARY: This notice announces the availability of and requests comments on the proposed report on the adequacy of the FAA's current and pending regulations, policy, guidance materials, and past practices used by non-Type Certificate (TC) holders in the development of replacement parts, alterations, and repairs.

DATES: Submit comments on the draft report by October 6, 2008.

ADDRESSES: Send all comments to: John Milewski, Certification Procedures Branch, AIR-110, 800 Independence Ave., SW., Washington, DC 20591, telephone (202) 267-3411; fax (202) 267-5340. You may deliver comments to: Federal Aviation Administration, Room 815, 800 Independence Avenue, SW., Washington, DC, 20591, ATTN: Mr. John Milewski, or electronically submit comments to the following Internet address e-mail 9-AWA-AVS-RAF-ReportComments@faa.gov. Include in the subject line of your message the title of the document on which you are commenting.

FOR FURTHER INFORMATION CONTACT: To obtain additional details on this report, please contact Mr. Mark C. Fulmer, ANE-100, Federal Aviation Administration, Engine & Propeller Directorate, 12 New England Executive Park, Burlington, MA 01803, telephone (781) 238-7775, FAX: (781) 238-7199, or e-mail: mark.c.fulmer@faa.gov.

SUPPLEMENTARY INFORMATION:

Comments Invited

Submit written data, views, or arguments on the proposed Report to the above-specified address. You may examine all comments received before and after the comment closing date by visiting Room 815, FAA Building, 800 Independence Avenue, SW., Washington, DC, weekdays except Federal holidays, between 8 a.m. and 4 p.m. The Director, Aircraft Certification Service, will consider all comments received on or before the closing date before issuing the final report.

Background

The Office of Aviation Safety in the Federal Aviation Administration chartered a team to assess the adequacy of current and pending regulations, policy, guidance and past practices for non-Type Certificate (TC) holders to obtain approval for developing replacement parts, alterations, and repairs. This Repair Alteration Fabrication (RAF) team reviewed all current regulations, policy and practices pertaining to the approval of replacement parts, repairs and alterations of critical engine parts. The team further reviewed concerns raised by TC holders and others, including the evaluation of other approval methods used by repair stations and owner/operator maintenance facilities. The team met with industry groups and companies to obtain additional information to assist them. The results of their efforts are a number of conclusions and recommendations they believe will improve the FAA's approval processes and foster the consistent application of safety standards for replacement parts, repairs, and alterations. This study is entitled “Aviation Safety (AVS) Repair, Alterations and Fabrication (RAF) Study.”

How To Obtain Copies

You may get a copy of the proposed policy from the Internet at: http://www.faa.gov/aircraft/draft_docs/, then select publications to access the report. You may also request a copy from Mr. Mark C. Fulmer. See the section entitled “FOR FURTHER INFORMATION CONTACT” for the complete address.

Issued in Washington, DC, on August 27, 2008.
Susan J.M. Cabler,
Assistant Manager, Aircraft Engineering Division, Aircraft Certification Service.

[FR Doc. E8-20460 Filed 9-4-08; 8:45 am]

BILLING CODE 4910-13-M